INTERNATIONAL TRADE COMMISSION

[Investigation Nos. 731-TA-394-A & 399-A (Second Review) (Third Remand)]

Ball Bearings From Japan and the United Kingdom

AGENCY: United States International Trade Commission.

ACTION: Notice of remand proceedings.

SUMMARY: The U.S. International Trade Commission (“Commission”) hereby gives notice of its third remand proceedings with respect to its affirmative determinations in the five-year reviews of the antidumping orders on ball bearings from Japan and the United Kingdom. For further information concerning the conduct of this proceeding and rules of general application, consult the Commission's Rules of Practice and Procedure, part 201, subparts A through E (19 CFR part 201), and part 207, subpart A (19 CFR part 207).

DATES: Effective Date: March 27, 2010.

FOR FURTHER INFORMATION CONTACT: James McClure, Office of Investigations, telephone 202-205-3191, or David Goldfine, Office of General Counsel, telephone 202-708-5452, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov).

SUPPLEMENTARY INFORMATION: Background.—On April 12, 2010, the Court of International Trade (per Judge Barzilay) issued an opinion in NSK Corp. et al. v. United States, Slip Op. 10-38 (“NSK IV”), affirming-in-part and remanding-in-part the Commission's affirmative determination in Certain Bearings and Parts Thereof From Japan and the United Kingdom, Inv. Nos. 731-TA-394-A & 399-A (Second Review) (Second Remand), USITC Pub. 4131 (Jan. 2010).

In NSK IV, the Court affirmed the Commission's vulnerability analysis, concluding that “the Commission has provided the rational connection missing from its previous determinations, and [therefore] the court sustains the agency's vulnerability finding.” Slip Op. at 10-11. However, the Court remanded the issue of U.K. cumulation, concluding that the Commission had failed to “demonstrate that some incentive likely would draw a discernible amount of the subject United Kingdom goods specifically to the United States in the absence of the order.” Id. at 18. The Court further explained that it “does not believe that the existing record, taken as a whole, can support an affirmative discernible adverse impact finding,” and stated that the “Commission may reopen the record and obtain additional data on this issue in the next remand proceeding, if it so chooses.” Id. at 16. Finally, on the issues of likely impact and causation, the Court stated that the Commission's analysis of the two remaining issues “nearly resembles the kind of substantial evidence needed for the court to sustain an agency determination.” Slip Op. at 18. Nevertheless, the Court directed the Commission on remand to address the issue of whether “non-subject imports may prevent the subject imports from achieving the requisite level of causation and, therefore, serve as an impenetrable barrier that precludes the agency from affirmatively finding injury in this sunset review.” Id. at 17.

Under the remand schedule ordered by the court, the Commission was required to file by May 12, 2010, a status report advising the Court as to whether it will reopen the record on the U.K. cumulation issue. The Court also directed the parties to file a joint scheduling order by May 12, 2010.

On May 12, 2010, the Commission filed the requested status report with the Court, advising the Court that it will not be reopening the record on the issue of the discernible adverse impact of the subject imports from the United Kingdom. On May 12, 2010, the parties also submitted a proposed joint scheduling order. Under the remand schedule ordered by the court, the Commission must file its third remand determination by August 25, 2010. The Court has directed the Plaintiffs, Plaintiff-Intervenors, and Defendant-Intervenors to file their comments on the remand by September 29, 2010.

Participation in the proceeding.—Only those persons who were interested parties to the reviews (i.e., persons listed on the Commission Secretary's service list) and parties to the appeal may participate in the remand proceeding. Such persons need not make any additional filings with the Commission to participate in the remand proceeding, unless they are adding new individuals to the list of persons entitled to receive business proprietary information under administrative protective order. Business proprietary information (“BPI”) referred to during the remand proceeding will be governed, as appropriate, by the administrative protective order issued in the reviews.

Written submissions.—The Commission is not re-opening the record in this remand proceeding. The Commission will permit the parties to file comments pertaining to the specific issues that are the subject of the Court's remand instructions. Comments should be limited to no more than fifteen (15) double-spaced and single-sided pages of textual material. No appendices or other attachments are allowed. The parties may not themselves submit any new factual information in their comments and may not address any issue other than those that are the subject of the Court's remand instructions. Any such comments must be filed with the Commission no later than June 15, 2010.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR part 201), and part 207, subpart A (19 CFR part 207) for provisions of general applicability concerning written submissions to the Commission.

By order of the Commission.
Issued: May 27, 2010.
William R. Bishop,
Acting Secretary to the Commission.

[FR Doc. 2010-13217 Filed 6-1-10; 8:45 am]

BILLING CODE P